FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than July 26, 2016.

A. Federal Reserve Bank of Atlanta (Chapelle Davis, Assistant Vice President) 1000 Peachtree Street NE., Atlanta, Georgia 30309. Comments can also be sent electronically to Applications.Comments@atl.frb.org:

1. The W.R.S. 2016 Trust, W.R. Stephens, Jr., Trustee; the E.S.C. 2016 Trust, Elizabeth J. Campbell, Trustee; James Oswald Jacoby, Jr., the Robert L. Schulte Revocable Trust, Robert L. Schulte, Trustee; the Jackson Clay Hunter Revocable Living Trust, Jackson Clay Hunter, Trustee; Debbie Evans, Eric D. Summerhill, Ronald Max Clark, the Sorrells Joint Revocable Trust, W. Kent Sorrells, Trustee; Christopher Edwin Kauffman, Kenneth Aaron Clark, and the TST Trust, Timothy S. Trzebiatowski, Trustee, all of Little Rock, Arkansas; and the Emon A. Mahony Jr. Revocable Trust, Emon A. Mahony, Trustee, El Dorado, Arkansas; Dillon Joyce Ltd., Thomas Hendrick, Partner, Dallas, Texas; the Gary D. Boland and Dana L. Boland Living Trust, Gary D. Boland, Trustee, Ft. Smith, Arkansas; the Martin Family Revocable Living Trust, Bobby Martin, Trustee, Rogers, Arkansas; the Gash Grandchildren's Trust, Ray C. Gash, Trustee, North Little Rock, Arkansas; and the William S. Walker Living Trust, William J. Walker, Trustee, Ft. Smith, Arkansas; have applied for permission to acquire additional share up to 28.205% of the outstanding shares of Brand Group Holdings, Inc. and its subsidiary, The Brand Banking Company, both of Lawrenceville, Georgia.

Board of Governors of the Federal Reserve System, July 6, 2016.
Margaret Shanks,
Deputy Secretary of the Board.

[FR Doc. 2016-16319 Filed 7-8-16; 8:45 am]

BILLING CODE 6210-01-P